DEPARTMENT OF TRANSPORTATION

Federal Railroad Administration

[Docket No. FRA-2015-0007-N-31]

Proposed Agency Information Collection Activities; Comment Request

AGENCY: Federal Railroad Administration (FRA), Department of Transportation (DOT).

ACTION: Notice and request for comments.

SUMMARY: In compliance with the Paperwork Reduction Act of 1995, this notice announces that the renewal Information Collection Requests (ICRs) abstracted below are being forwarded to the Office of Management and Budget (OMB) for review and comment. The ICRs describe the nature of the information collections and their expected burden. The Federal Register notice with a 60-day comment period soliciting comments on the following collections of information was published on September 23, 2015.

DATES: Comments must be submitted on or before January 11, 2016.

FOR FURTHER INFORMATION CONTACT: Mr. Robert Brogan, Information Collection Clearance Officer, Office of Safety, Safety Regulatory Analysis Division, RRS-21, Federal Railroad Administration, 1200 New Jersey Ave. SE., Mail Stop 25, Washington, DC 20590 (Telephone: (202) 493-6292), or Ms. Kimberly Toone, Information Collection Clearance Officer, Office of Administration, Office of Information Technology, RAD-20, Federal Railroad Administration, 1200 New Jersey Ave. SE., Mail Stop 35, Washington, DC 20590 (Telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), and 1320.12. On September 23, 2015, FRA published a 60-day notice in the Federal Register soliciting comment on ICRs that the agency is seeking OMB approval. See 80 FR 57425. FRA received no comments in response to this notice.

Before OMB decides whether to approve these proposed collections of information, it must provide 30 days for public comment. 44 U.S.C. 3507(b); 5 CFR 1320.12(d). Federal law requires OMB to approve or disapprove paperwork packages between 30 and 60 days after the 30 day notice is published. 44 U.S.C. 3507 (b)-(c); 5 CFR 1320.12(d); see also 60 FR 44978, 44983, Aug. 29, 1995. OMB believes that the 30 day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requests (ICRs) and their expected burdens. The renewal requests are being submitted for clearance by OMB as required by the PRA.

Title: State Safety Participation Regulations and Remedial Actions.

OMB Control Number: 2130-0509.

Abstract: The collection of information is set forth under 49 CFR part 212, and requires qualified state inspectors to provide various reports to FRA for monitoring and enforcement purposes concerning state investigative, inspection, and surveillance activities regarding railroad compliance with Federal railroad safety laws and regulations. Additionally, railroads are required to report to FRA actions taken to remedy certain alleged violations of law.

Type of Request: Extension with change of a currently approved information collection.

Affected Public: Businesses (Railroads).

Form(s): N/A.

Total Annual Estimated Responses: 22,352.

Total Annual Estimated Burden: 9,240 hours.

Title: Use of Locomotive Horns at Highway-Rail Grade Crossings.

OMB Control Number: 2130-0560.

Abstract: Under Title 49 part 222 of the Code of Federal Regulations, FRA seeks to collect information from railroads and public authorities in order to increase safety at highway-rail grade crossings nationwide by requiring that locomotive horns be sounded when trains approach and pass through these crossings or by ensuring that a safety level at least equivalent to that provided by blowing locomotive horns exists for corridors in which horns are silenced. FRA reviews applications by public authorities intending to establish new or, in some cases, continue pre-rule quiet zones to ensure the necessary level of safety is achieved.

Type of Request: Extension with change of a currently approved information collection.

Form(s): N/A.

Total Annual Estimated Responses: 4,001.

Total Annual Estimated Burden: 9,176 hours.

Title: Safety Appliance Concern Recommendation Report; Safety Appliance Standards Checklist Forms.

OMB Control Number: 2130-0565.

Abstract: Sample car/locomotive inspections are performed as a courtesy to the car manufacturers to ensure that the equipment is built in accordance with all applicable Federal regulations and requirements. Car builders that desire to have FRA review their equipment for compliance with safety standards are to submit their safety appliance arrangement drawings, prints, etc., to the FRA Office of Safety Assurance and Compliance for review at least 60 days prior to construction. The sample car inspection program is designed to provide assurance that rolling stock equipment is compliant within the Code of Federal Regulations for use on the general railroad system. Although a sample car inspection is not required, most builders today request FRA to perform the inspection. The goal of the sample car inspection program is to reduce risk to railroad employees and improve passenger safety for the general public by ensuring rolling stock is fully compliant with all applicable regulations.

In an ongoing effort to conduct more thorough and more effective inspections of freight railroad equipment and to further enhance safe rail operations, FRA has developed a safety concern recommendation report form and a group of guidance checklist forms that facilitate railroad, rail car owner, and rail equipment manufacturer compliance with agency Railroad Safety Appliance Standards regulations. FRA will be obsoleting Forms FRA F 6180.4(a)-(q) and requesting OMB discontinue its current approval for these forms. FRA will be replacing these forms with new Forms FRA F 6180.161(a)-(k). The reason for the discontinuance of the previously approved forms and request for OMB approval of the new forms is due to the fact that 49 CFR part 231 is being supplemented and expanded to cover new types of cars. For these new types of cars, FRA will be following the Standard established by the Association of American Railroads (AAR) Standard 2044 or S-2044.

When a request for sample car inspection incoming letter is provided by the customer, an abundant amount of information is submitted to FRA for review that may require a formal on-site inspection. The information contained in the letter includes several paragraphs to explain the cited Code of Federal Regulations that the customer believes related to the construction of the car. Since many cars today are considered a car of special construction, the type of car to be reviewed, many times the amount of details of information are supplied to support why the customer believes the car submitted is the nearest car to construction. An abundance of factors with justification to support the car type is included in the request. Some examples would be a Logo, Company Name, and signature block, specific drawings, reflectorization, engineering information such as test or modeling of components. Also, the request may include car reporting marks, the amount of cars that would be constructed in the car series. In addition, the request would provide the location of the inspection, contact person, title, and contact information. Currently, each request is written differently, but contains most of the information to process the request to completion.

The FRA region responsible for the sample car field sample car inspection is obliged to formally inspect the car for compliance. All the information in the customer request is forwarded to the region for review. Once the inspection is completed, the assigned inspector provides his report in a memorandum to the Motive, Power, and Equipment (MP&E) Specialist. The MP&E Specialist reviews the documents and provides a memo to the Regional Administrator who sends a response by memorandum to FRA Headquarters of the finding from the field inspection.

FRA Headquarters is responsible for gathering all the information from the request from the customer as well as assigning and forwarding the information to the Region. All the information is reviewed by the MP&E Specialist at Headquarters. The MP&E Specialist prepares a grid letter response for the MP&E Staff Director who then offers the response letter to the Director, Office of Safety Assurance and Compliance. The formal response letter is then sent to the customer through the Control Correspondence Management (CCM) system.

Type of Request: Revision of a currently approved information collection.

Affected Public: Businesses (Railroads).

Form(s): New Forms FRA F 6180.161(a)-(k).

Total Annual Estimated Responses: 121.

Total Annual Estimated Burden: 121 hours.

Title: FRA Safety Advisory 2015-03, Operational and Signal Modifications for Compliance with Maximum Authorized Passenger Train Speeds and Other Restrictions.

OMB Control Number: 2130-0613.

Abstract: FRA issued Safety Advisory 2015-03 on June 12, 2015 (see 80 FR 33585) to stress to passenger railroads and railroads that host passenger service and their employees the importance of compliance with Federal regulations and applicable railroad rules governing applicable passenger train speed limits. This safety advisory makes recommendations to these railroads to ensure that compliance with applicable passenger train speed limits is addressed by appropriate railroad operating policies and procedures and signal systems.

Type of Request: Regular Clearance without change of a currently approved Emergency Clearance.

Affected Public: Businesses (Railroads).

Form(s): N/A.

Total Annual Estimated Responses: 5,880.

Total Annual Estimated Burden: 2,217 hours.

Addressee: Send comments regarding these information collections to the Office of Information and Regulatory Affairs, Office of Management and Budget, 725 Seventeenth Street NW., Washington, DC, 20503, Attention: FRA Desk Officer. Comments may also be sent via email to OMB at the following address: oira_submissions@omb.eop.gov.

Comments are invited on the following: Whether the proposed collections of information are necessary for the proper performance of the functions of the Department, including whether the information will have practical utility; the accuracy of the Department's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Issued in Washington, DC, on December 4, 2015.
Corey Hill,
Acting Executive Director.

[FR Doc. 2015-31048 Filed 12-9-15; 8:45 am]

BILLING CODE 4910-06-P